DEPARTMENT OF ENERGY

Federal Energy Regulatory Commission

[Docket No. RP96-359-009]

Transcontinental Gas Pipe Line Corporation; Notice of Negotiated Rates

October 18, 2002.

Take notice that on October 10, 2002, Transcontinental Gas Pipe Line Corporation (Transco) tendered for filing the executed service agreements and amendments to those agreements that contain a negotiated rate under Rate Schedule FT applicable to the MarketLink Phase II Expansion Project between Transco and various MarketLink Phase II customers.

Transco states that the purpose of the instant filing is to comply with requirements specified in the Commission's Order issued December 13, 2000, “Order Amending Certificate and Denying Request for Stay,” which required Transco, among other things, to file, not less than 30 days prior to the commencement of service of the MarketLink Phase II Expansion Project, the negotiated rate agreements or tariff sheets reflecting the essential elements of its negotiated rate agreements. The anticipated effective date of these negotiated rate agreements is November 1, 2002.

Transco states that copies of the filing are being mailed to its affected customers and interested State Commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-27293 Filed 10-24-02; 8:45 am]

BILLING CODE 6717-01-P